DEPARTMENT OF DEFENSE

Office of the Secretary

[Docket ID: DOD-2010-OS-0005]

Privacy Act of 1974; System of Records

AGENCY: National Geospatial-Intelligence Agency (NGA), DoD.

ACTION: Notice to add a system of records.

SUMMARY: The National Geospatial-Intelligence Agency proposes to add a system of records to its inventory of record systems subject to the Privacy Act of 1974 (5 U.S.C. 552a), as amended.

DATES: The system will be effective on February 24, 2010, unless comments are received that would result in a contrary determination.

ADDRESSES: You may submit comments, identified by docket number and title, by any of the following methods:

• Federal Rulemaking Portal: http://www.regulations.gov. Follow the instructions for submitting comments.

• Mail: Federal Docket Management System Office, 1160

Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Ed Hughes at 301-227-7714.

SUPPLEMENTARY INFORMATION: The National Geospatial-Intelligence Agency notices for systems of records subject to the Privacy Act of 1974 (5 U.S.C. 552a), as amended, have been published in the Federal Register and are available from the address above.

The proposed systems reports, as required by 5 U.S.C. 552a(r) of the Privacy Act of 1974, as amended, were submitted on January 20, 2010 to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: January 20, 2010.
Mitchell S. Bryman,
Alternate OSD Federal Register Liaison Officer, Department of Defense.

B0303-06

System name:

National Geospatial-Intelligence Agency (NGA)—Enterprise Workforce System (NEWS).

System location:

National Geospatial-Intelligence Agency (NGA), 4600 Sangamore Road, Bethesda, MD 20816-5003.

National Geospatial-Intelligence Agency (NGA), 3200 S. Second Street, St. Louis, MO 63118-3399.

Categories of individuals covered by the system:

NGA employees, contactors, military, non-NGA employees, and military who register for a course at National-Geospatial Intelligence College (NGC), individuals that apply for a job through e-Recruit, requests access to the network, or badge to an NGA facility.

Categories of records in the system:

Names, Social Security Number (SSN), current address, telephone number, personnel records, partial medical records; foreign contacts and interests, competency files; pay; promotions; transfers; awards; retirements; hires; training course data; instructor data; and employee training history.

The system also includes Equal Employment Opportunity (EEO) data; education; health and life insurance; thrift savings plan (TSP); occupation; new hire applicant data; Assignment Opportunity Notice (AON) data; clearance data; polygraph information; contractors; contracts; military data; leave data; languages spoken; NGA Identification Number (NGA ID); and certificates, if an individual chooses to provide one, such as a marriage certificate.

Authority for maintenance of the system:

5 U.S.C. 301 Departmental Regulations; DoDD 5105.60,National Geospatial-Intelligence Agency (NGA); 5 U.S.C. 7532, Suspension and Removal; E.O. 10450, Security Requirements for Government Employees; E.O. 12958, Classified National Security Information; DoD 5200.2-R, DoD Personnel Security Program; Director of Central Intelligence Directive No. 1/14, Personnel Security Standards and Procedures Governing Eligibility for Access to Sensitive Compartmented Information (SCI); and, E.O. 9397 (SSN), as amended.

Purpose(s):

National Geospatial-Intelligence Agency Enterprise Workforce System (NEWS) is a human resources system used to manage acquisition, management and training for NGA civilian, military, and contractor workforces. It also manages personnel security and clearance management; and is used to satisfy Federal, DoD and community reporting requirements for manpower, EEO and diversity reports. It addition, the system is used for the management of user accounts on internal computer systems.

Routine uses of records maintained in the system, including categories of uses and the purposes for such uses:

In addition to those disclosures generally permitted under 5 U.S.C. 552a(b) of the Privacy Act of 1974 and the DoD Blanket Routine Uses, these records contained therein may be specifically disclosed outside the DoD as a routine use pursuant to 5 U.S.C. 552a(b)(3) as follows:

Relevant records from this system may be provided regularly to the Office of the Director of National Intelligence (ODNI) for the Intelligence Community to provide aggregate workforce planning, analysis, and reporting purposes. Records provided to the ODNI through this routine use for the Personnel Data Repository (PDR) and Intelligence Community Capabilities Catalog (IC3) initiatives will not include any individual's name or Social Security Number (SSN).

The DoD `Blanket Routine Uses' set forth at the beginning of NGA's compilation of systems of records notices apply to this system.

Policies and practices for storing, retrieving, accessing, retaining, and disposing of records in the system:

Storage:

Records are maintained on electronic storage media.

Retrievability:

Records are retrieved in the system by name, Social Security Number (SSN), NGA Identification Number (NGA ID).

Safeguards:

Records are maintained in a controlled facility. Physical access is restricted by the use of locks, guards, and is accessible only to authorized personnel. Access to records is limited to individuals responsible for servicing the record in performance of their official duties and who are properly screened and cleared for need-to-know. Access to computerized data is restricted by technical measures, including password protection, firewalls, and encryption.

Retention and disposal:

Forms, notices, reports, and memoranda considered to be of permanent value or required by law or regulation to be preserved are retained for the period of employment or assignment, then forwarded to the gaining organization or retained indefinitely.

If the action is separation or retirement, these items are forwarded to the Office of Personnel Management or retired to a records storage facility as appropriate. Items considered to be relevant for a temporary period are retained for that period, either transferred with the employee, assignee, or destroyed when they are no longer relevant or either at a time of separation or retirement.

The computerized portion is deleted and updated as appropriate. Records relating to adverse actions, grievances, excluding EEO complaints and performance-based actions, except SFs-50, are retained for four years. Personnel summary, training, testing and past activity segments are retained permanently. All other portions are deleted at end of tenure.

System manager(s) and address:

Senior System Engineer, National Geospatial-Intelligence Agency (NGA), 6011 MacArthur Blvd., Bethesda, MD 20816-5003.

Notification procedure:

Individuals seeking to determine whether information about them is contained in this system should address written inquiries to the National Geospatial-Intelligence Agency (NGA), Office of the General Counsel, Mail Stop D-10, 4600 Sangamore Road, Bethesda, MD 20816-5003.

Written requests for information should contain the full name of the individual, current address, and telephone number.

Record access procedures:

Individuals seeking to access to information about themselves contained in this system should address written inquiries to the National Geospatial-Intelligence Agency (NGA), Office of the General Counsel, Mail Stop D-10, 4600 Sangamore Road, Bethesda, MD 20816-5003.

Written requests for information should contain the full name of the individual, current address, and telephone number.

Contesting records procedure:

NGA's rules for accessing records, and for contesting contents and appealing initial agency determinations, are published in NGA Instruction 5500.7R10; 32 CFR 320.6; or may be obtained from the Office of the General Counsel, Mail Stop D-10, 4600 Sangamore Road, Bethesda, MD 20816-5003.

Record source categories:

Information is received directly from the individual through the e-Recruit application system or PeopleSoft self-service feature; Office of Personnel Management records; Defense Finance and Accounting Service (DFAS) (payroll feed); security paperwork from Defense Security Service (DSS); security office of other non-government organizations (e.g., contractor firms).

Exemptions claimed for the system:

None.

[FR Doc. 2010-1303 Filed 1-22-10; 8:45 am]

BILLING CODE 5001-06-P